CONSUMER PRODUCTS SAFETY COMMISSION

[CPSC Docket No. 02-1]

In the Matter of Chemetron Corporation, et al.; Prehearing Conference

AGENCY: Consumer Product Safety Commission.

ACTION: Notice of first prehearing conference.

DATE: This notice announces a prehearing conference to be held in the matter of Chemetron Corporation, Chemetron Investments, Inc., Sunbeam Corporation, Sprinkler Corporation of Milwaukee, Inc. and Grucon Corporation on May 1, 2002 at 10 a.m.

ADDRESS: The prehearing conference will be in hearing room 420 of the East-West Towers Building, 4330 East-West Highway, Bethesda, Maryland 20814.

FOR FURTHER INFORMATION CONTACT: Todd A. Stevenson, Secretary, U.S. Consumer Product Safety Commission, Washington, DC; telephone (301) 504-0800; telefax (301) 504-01237.

SUPPLEMENTARY INFORMATION: This public notice is issued pursuant to 16 CFR 1025.21(b) of the U.S. Consumer Product Safety Commission's Rules of Practice of Adjudicative Proceedings to inform the public that a prehearing conference will be held in administrative proceeding under Section 15 of the Consumer Product Safety Act (CPSA or Act) captioned CPSC Docket No. 02-1, In the Matter of Chemetron Corporation, Chemetron Investments, Inc., Sunbeam Corporation, Sprinkler Corporation of Milwaukee, Inc. and Grucon Corporation. The Presiding Officer in the proceeding is United States Administrative Law Judge William B. Moran. The Presiding Officer has determined that, for good and sufficient cause, the time period for holding this first prehearing conference had to be extended to the date announced above, which date is beyond the fifty (50) day period referenced in 16 CFR 1025.21(a).

The public is referred to the Code of Regulations citation listed above for identification of the issues to be raised at the conference and is advised that the date, time and place of the hearing also will be established at the conference.

Substantively, the issues being litigated in this proceeding are described by the Presiding Officer to include: Whether the Star ME-1, a dry fire sprinkler manufactured from 1977 through 1995 is, within the meaning of the CPSA, a “consumer product” which was distributed in commerce; whether, as a result of inadequate design and/or manufacturing, this sprinkler model has failed to operate as intended in fires and constitutes a “defect” under the Act, which presents a “substantial product hazard,” creating a substantial risk of injury to consumers, within the meaning of Section 15(a)(2), (c) and (d) of the CPSA, 15 U.S.C. 2064(a)(2), (c) and (d). Should these allegations be proven, Complaint Counsel for the Office of Compliance of the U.S. Consumer Product Safety Commission seeks a finding that the product presents a substantial product hazard and that public notification be made pursuant to section 15(c) of the CPSA and that other appropriate relief be directed, as set forth in the Compliant.

April 10, 2002.
Todd A. Stevenson,
Secretary.

[FR Doc. 02-9140 Filed 4-15-02; 8:45 am]

BILLING CODE 6355-01-M